DEPARTMENT OF ENERGY

National Petroleum Council

AGENCY: Office of Fossil Energy, Department of Energy.

ACTION: Notice of open meeting: Correction.

SUMMARY: The Department of Energy (DOE) published in the Federal Register on November 30, 2021, a notice of an open meeting for the National Petroleum Council. The notice is being corrected for the weekday. Agenda items will stay the same.

Correction

In the Federal Register of November 30, 2021, in FR DOC. 2021-26052, on page 67930, please make the following corrections:

In the DATES heading, first column, first paragraph, first line, please correct date to, “Tuesday, December 14, 2021”

Issued in Washington, DC on December 1, 2021.
LaTanya Butler,
Deputy Committee Management Officer.

[FR Doc. 2021-26389 Filed 12-3-21; 8:45 am]

BILLING CODE P